DEPARTMENT OF HOMELAND SECURITY

U.S. Citizenship and Immigration Services

[CIS No. 2547-14; DHS Docket No. USCIS-2007-0043]

Notice of Changes to Application Procedures for the Cuban Family Reunification Parole Program

AGENCY: U.S. Citizenship and Immigration Services, DHS.

ACTION: Notice.

SUMMARY: U.S. Citizenship and Immigration Services (USCIS) announces that as of February 17, 2015, USCIS will begin requiring the filing of an Application for Travel Document (Form I-131) and payment of its associated fee or approval of a fee waiver request from individuals who are applying for the Cuban Family Reunification Parole (CFRP) Program on behalf of a beneficiary in Cuba. No form or fee is currently required for the CFRP Program. Under the CFRP Program, USCIS offers certain beneficiaries of approved family-based immigrant petitions the opportunity to be paroled into the United States to apply for lawful permanent resident status, rather than remain in Cuba waiting for their immigrant visas to become available. The purpose of the program is to expedite family reunification through safe, legal, and orderly channels of migration to the United States and to discourage irregular and inherently dangerous maritime migration. This notice is intended to: Make the CFRP Program application and adjudication processes consistent with those for most other requests for parole filed on behalf of individuals outside the United States; facilitate centralized filing and more standardized processing of parole applications; and, recover costs incurred by USCIS to adjudicate and provide CFRP Program travel documents. This notice will affect only those individuals who receive a written invitation to apply to the CFRP Program from the Department of State's National Visa Center (NVC) which is dated on or after February 17, 2015. This notice will not affect existing CFRP Program beneficiaries or individuals who received a notice of program eligibility from the NVC predating the publication of this notice and who submitted to the NVC the complete documentation required to apply for the program prior to February 17, 2015 (referred to as `grandfathered' cases). Grandfathered cases will continue to be processed without form or fee.

DATES:

• As of December 18, 2014, the NVC will no longer issue CFRP Program eligibility notices inviting eligible petitioners to opt in to the program without the required form and fee.

• On or after February 17, 2015, the NVC will begin sending to eligible petitioners a written invitation to apply to the CFRP Program using the required form and fee or request for fee waiver.

• A petitioner who received a CFRP Program eligibility notice dated prior to December 18, 2014 must submit to the NVC the complete required documentation to apply for the CFRP Program before February 17, 2015 to be grandfathered and eligible for processing without a form and fee.

• A petitioner who received a CFRP Program eligibility notice before December 18, 2014 who fails to submit to the NVC the complete required documentation to apply for the CFRP Program before February 17, 2015 cannot apply for the program until the petitioner receives a written invitation to apply to the CFRP Program using a required form and fee.

• Any person who applies for the CFRP Program after February 17, 2015 must submit a form and fee as prescribed in this notice and after receipt of a written invitation to apply from the NVC.

FOR FURTHER INFORMATION CONTACT: Pilar Peralta Mihalko, Chief, International Adjudications Support Branch, International Operations Division, U.S. Citizenship and Immigration Services, Department of Homeland Security, 1585 S. Manchester Avenue, Anaheim, CA 92802, Telephone (714) 808-8133.

SUPPLEMENTARY INFORMATION:

I. Background on CFRP Program

The CFRP Program was announced on November 15, 2007, via Federal Register notice (72 FR 65588). The notice explained that, in accordance with the U.S.-Cuba Migration Accords, the United States committed to ensuring that total legal migration to the United States from Cuba would be a minimum of 20,000 Cubans each year, not including immediate relatives of U.S. citizens (USC). See Joint Communiqué on Migration, U.S.-Cuba (Sept. 9, 1994) (known together with the May 2, 1995 Joint Statement as the U.S.-Cuba Migration Accords (hereinafter “Migration Accords”)). Through the CFRP the United States offers a safe, legal, and orderly means of migrating to the United States.

The CFRP Program addressed two constraints posed by the array of migration programs that existed at the time of the program's creation, which had limited the ability of the United States to effectively promote safe, legal, and orderly migration as an alternative to inherently dangerous maritime crossings. First, with the exception of immediate relatives of USCs (i.e., spouse, unmarried child(ren) under 21 years of age, and parents), see Immigration and Nationality Act (INA) sec. 201(b)(2)(A)(i), 8 U.S.C. 1151(b)(2)(A)(i), the number of family-based immigrant visas that are available in any given year is limited by statute, see INA secs. 201(c), 202(a), 203, 8 U.S.C. 1151(c), 1152(a), 1153. These statutory limits have resulted in long waiting periods before family members remaining in Cuba may join the USC and lawful permanent resident (LPR) family members who petitioned for them. Since 1998, the Cuban Government has not permitted a new registration for the Special Program for Cuban Migration, the parole lottery initiated by the United States in support of the Migration Accords. Without this pool of individuals, there was a deficiency in the number of Cubans potentially eligible for travel to the United States.

Under the CFRP Program, USCIS exercises its discretionary parole authority to permit eligible Cuban nationals to come to the United States to join their family members.¹ Granting parole to eligible aliens under the CFRP Program serves the significant public benefit of enabling the United States to meet its commitments under the Migration Accords. It also lessens the perceived need for family members left behind in Cuba to make irregular and inherently dangerous attempts to arrive in the United States through unsafe maritime crossings, thereby discouraging alien smuggling as a means to enter the United States. Whether to parole a particular alien remains, however, a case-by-case, discretionary determination.

¹ See INA sec. 212(d)(5)(A), 8 U.S.C. 1182(d)(5)(A) (permitting parole of certain aliens into the United States, as a matter of discretion and on a case-by-case basis, for urgent humanitarian reasons or significant public benefit); see also 8 CFR 212.5(c) & (d) (discretionary authority for establishing conditions of parole and for terminating parole).

II. Background on Requiring a Form and a Fee

USCIS has not previously required a form or collected a fee for parole requests under the CFRP Program. As a result, USCIS has not used a standardized USCIS form, and has not required family members or beneficiaries to cover any of the costs associated with the benefit provided to them under the CFRP Program. The INA provides that USCIS may collect fees at a level that will ensure recovery of the full costs of adjudication and naturalization services, including services provided without charge to asylum applicants and certain other immigration applicants. INA sec. 286(m), 8 U.S.C. 1356(m). Operating expenses for the CFRP Program have been fully funded through use of fee revenue from other immigration benefit applicants. To bring CFRP Program parole requests in line with the majority of other parole requests filed on behalf of individuals outside of the United States, USCIS will now require the submission of a completed Form I-131, Application for Travel Document, and the fee required by USCIS fee regulations at 8 CFR 103.7(b)(1)(i)(M) for any CFRP Program application filed on or after February 17, 2015. Applicants for the CFRP Program must complete and file the Form I-131 in effect at the time of filing—and follow any additional instructions included in the program eligibility notice they receive from either USCIS or the NVC in submitting their application. A completed Form I-131 and fee or fee waiver request must be filed for each individual on whose behalf parole is being requested.

III. Participation in the CFRP Program and Application Process

USCIS offers participation in the CFRP Program to Cuban nationals who reside in Cuba and who are the beneficiaries—including any eligible spouse and child accompanying or following-to-join the principal beneficiaries (see INA sec. 203(d), 8 U.S.C. 1153(d))—of an approved Form I-130, Petition for Alien Relative, but for whom an immigrant visa is not immediately available. Participation in the CFRP Program is voluntary.

Prior to the date of this notice, the NVC mailed written notice to eligible U.S.-based U.S.C. and LPR petitioners with approved Forms I-130 indicating their beneficiaries' eligibility to participate in the CFRP Program. The notice invited an interested petitioner to submit to the NVC a copy of their approved Form I-130 and other supporting documents to opt in to the CFRP Program and begin the process of requesting parole. No formal application form or fee was required to apply. As of the date of this notice, the NVC will no longer issue CFRP Program eligibility notices that do not require a form and fee to apply. Petitioners with CFRP Program eligibility notices dated prior to December 18, 2014 must submit to the NVC the complete required documentation to opt in to the CFRP Program prior to February 17, 2015 in order to be grandfathered and considered for processing without a form and fee.

On or after February 17, 2015, participation in the CFRP Program will be predicated on submission of a Form I-131 and the requisite fee(s) or request for fee waiver that has been approved by USCIS. A U.S.C. or LPR petitioner in the United States with an approved Form I-130 that was filed on behalf of a beneficiary relative residing in Cuba, for whom a visa is not anticipated to be available during the CFRP processing time, will receive a written invitation from the NVC regarding the beneficiary's eligibility to participate in the CFRP Program and the procedures for requesting parole, if desired. The notice will instruct the recipient on how to file a completed Form I-131 and submit the required fee(s) or fee waiver request to apply for the program. USCIS will reject a request for parole under the CFRP Program submitted without the required form and fee(s) or a request for a fee waiver.

USCIS officers or Department of State consular officers will interview qualified beneficiaries in Havana to verify their eligibility for the program. Beneficiaries may also have their biometrics collected. If USCIS exercises its discretion to authorize parole under the CFRP Program, USCIS or the Department of State will issue the necessary travel documents to the beneficiary in Cuba. These travel documents will enable the beneficiary to travel safely to the United States and seek parole by U.S. Customs and Border Protection (CBP) at a U.S. port-of-entry to join his or her family member. A beneficiary who is paroled into the United States would then be eligible to apply to adjust status to that of lawful permanent resident after he or she has been physically present in the United States for one year as provided by the Cuban Adjustment Act, Pub. L. 89-732, 80 Stat. 1161 (8 U.S.C. 1255 note), or once the beneficiary's visa becomes available, whichever comes first.

Participation in the CFRP Program is not available to aliens who qualify as “immediate relatives” under section 201(b)(2)(A)(i) of the INA, 8 U.S.C. 1151(b)(2)(A)(i). Such aliens may seek immigrant visas for travel to the United States immediately upon the approval of the immigrant visa petitions filed on their behalf.

For eligible beneficiaries who are not “immediate relatives,” if an immigrant visa becomes available while the Form I-131 is pending, the beneficiary will be able to proceed with the parole process to completion, if desired. Alternatively, the beneficiary can choose to pursue immigrant visa processing, which will require payment of associated fees but will enable the individual to apply for admission to the United States as an immigrant, if found eligible by the Department of State for the visa and admissible by CBP at the port of entry.

IV. Paperwork Reduction Act (PRA)

Under the PRA, 44 U.S.C. chapter 35, all Departments are required to submit to the Office of Management and Budget (OMB) for review and approval, any new reporting requirements they impose. The Application for Travel Document, Form I-131, has been approved by OMB and assigned OMB control number 1615-0013. USCIS is making no changes to the Form in connection with the CFRP Program and this notice; however, USCIS estimates that this notice will result in an annual average of 13,000-15,000 Form I-131 filings per year. The current OMB-approved estimate of the number of annual respondents filing a Form I-131 is 940,671. USCIS has overestimated the number of individuals who will use this form to apply for immigration benefits to the degree that additional respondents who will use it to file for the CFRP Program will be covered within the 940,671 estimated. USCIS is not changing the collection instrument or increasing its burden estimates in connection with this notice. Therefore, USCIS is not publishing a notice under the PRA or making revisions to the currently approved burden for OMB control number 1615-0013.

Additional information about the CFRP Program and the application process will be posted on the USCIS Web site at www.uscis.gov.

Dated: December 11, 2014.
León Rodríguez
Director, U.S. Citizenship and Immigration Services.

[FR Doc. 2014-29486 Filed 12-17-14; 8:45 am]

BILLING CODE 9111-97-P